ENVIRONMENTAL PROTECTION AGENCY

[FRL-10009-16-ORD]

Ambient Air Monitoring Reference and Equivalent Methods; Designation of One New Equivalent Method

AGENCY: Environmental Protection Agency (EPA).

ACTION: Notice of the designation of a new equivalent method for monitoring ambient air quality.

SUMMARY: Notice is hereby given that the Environmental Protection Agency (EPA) has designated one new equivalent method for measuring concentrations of nitrogen dioxide (NO2) in ambient air.

FOR FURTHER INFORMATION CONTACT: Robert Vanderpool, Air Methods and Characterization Division (MD-D205-03), Center for Environmental Measurements and Modeling, U.S. EPA, Research Triangle Park, North Carolina 27711. Phone: 919-541-7877. Email: Vanderpool.Robert@epa.gov.

SUPPLEMENTARY INFORMATION: In accordance with regulations at 40 CFR part 53, the EPA evaluates various methods for monitoring the concentrations of those ambient air pollutants for which EPA has established National Ambient Air Quality Standards (NAAQS) as set forth in 40 CFR part 50. Monitoring methods that are determined to meet specific requirements for adequacy are designated by the EPA as either reference or equivalent methods (as applicable), thereby permitting their use under 40 CFR part 58 by States and other agencies for determining compliance with the NAAQS. A list of all reference or equivalent methods that have been previously designated by EPA may be found at http://www.epa.gov/ttn/amtic/criteria.html.

The EPA hereby announces the designation of one new equivalent method for measuring concentrations of NO2 in ambient air. This designation is made under the provisions of 40 CFR part 53, as amended on October 26, 2015(80 FR 65291-65468).

The new equivalent method for NO2 is an automated method (analyzer) utilizing the measurement principle based on cavity-attenuated phase-shift (CAPS) spectroscopy. This newly designated equivalent method is identified as follows:

EQNA-0320-256, “Teledyne Advanced Pollution Instrumentation, Model N500 Cavity-Attenuated Phase-Shift (CAPS) spectroscopy Nitrogen Oxides Analyzer”, operated on any full scale range between 0-0.5 ppm, at any operating temperature from 0 °C to 40 °C, with a sample particulate filter and in accordance with the Model N500 CAPS NOX Analyzer User Manual, and with or without any of the following options: Zero/Span valves, internal Zero/Span permeation oven (IZS), Analog Output expansion board, Digital I/O expansion board, external communication and data monitoring interfaces; and the NumaView™ software. Note 2 applies to the Teledyne Advanced Pollution Instrumentation, Model N500.

This application for an equivalent method determination for this NO2 method was received by the Office of Research and Development on January 21, 2020. This analyzer is commercially available from the applicant, Teledyne API, 9970 Carroll Canyon Road, San Diego, CA 92131.

A representative test analyzer was tested in accordance with the applicable test procedures specified in 40 CFR part 53, as amended on October 26, 2015. After reviewing the results of those tests and other information submitted by the applicant, EPA has determined, in accordance with part 53, that this method should be designated as an equivalent method.

As a designated equivalent method, this method is acceptable for use by states and other air monitoring agencies under the requirements of 40 CFR part 58, Ambient Air Quality Surveillance. For such purposes, this method must be used in strict accordance with the operation or instruction manual associated with the method and subject to any specifications and limitations (e.g., configuration or operational settings) specified in the designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-13-003, (both available at http://www.epa.gov/ttn/amtic/qalist.html). Provisions concerning modification of such methods by users are specified under Section 2.8 (Modifications of Methods by Users) of Appendix C to 40 CFR part 58.

Consistent or repeated noncompliance with any of these conditions should be reported to: Director, Air Methods and Characterization Division (MD-D205-03), Center for Environmental Measurements and Modeling, U.S. Environmental Protection Agency, Research Triangle Park, North Carolina 27711.

Designation of this equivalent method is intended to assist the States in establishing and operating their air quality surveillance systems under 40 CFR part 58. Questions concerning the commercial availability or technical aspects of the method should be directed to the applicant.

Dated: May 1, 2020.
Timothy Watkins,
Director, Center for Environmental Measurements and Modeling.

[FR Doc. 2020-09704 Filed 5-6-20; 8:45 am]

BILLING CODE 6560-50-P